DEPARTMENT OF STATE

[Delegation of Authority No: 408]

Delegation to the Assistant Secretary for Political-Military Affairs of Authority To Concur With the Secretary of Defense on Certain Actions

By virtue of the authority vested in the Secretary of State, including sections 1233 and 1513 of the National Defense Authorization Act for Fiscal Year 2008 (Pub. L. 110-181) (FY 2008 NDAA); 10 U.S.C. 127d; section 1226 of the National Defense Authorization Act for Fiscal Year 2016 (Pub. L. 114-92) (FY 2016 NDAA); and section 1 of the State Department Basic Authorities Act (22 U.S.C. 2651a), and delegated pursuant to Delegation of Authority 245-1, dated February 13, 2009, I hereby delegate to the Assistant Secretary for Political-Military Affairs, to the extent authorized by law, the authority to concur with the Secretary of Defense on the use of the Afghanistan Security Forces Fund pursuant to section 1513 of the FY 2008 NDAA; the use of the Global Lift and Sustain authority pursuant to 10 U.S.C. 127d; and the use of the Coalition Support Fund authority pursuant to section 1233 of the FY 2008 NDAA and section 1226 of the FY 2016 NDAA.

Notwithstanding this delegation of authority, any function or authority delegated by this Delegation may be exercised by the Secretary, the Deputy Secretary, the Deputy Secretary for Management and Resources, or the Under Secretary for Arms Control and International Security. Any reference in this delegation of authority to any statute or delegation of authority shall be deemed to be a reference to such statute or delegation of authority as amended from time to time.

This delegation of authority shall be published in the Federal Register.

Dated: October 19, 2016.
Heather Higginbottom,
Deputy Secretary of State for Management and Resources.

[FR Doc. 2016-27553 Filed 11-15-16; 8:45 am]

BILLING CODE 4710-25-P